DEPARTMENT OF THE INTERIOR

Bureau of Land Management

[BLM_HQ_FRN_MO4500175781]

Wild Horse and Burro Advisory Board Meeting

AGENCY: Bureau of Land Management, Interior.

ACTION: Notice of public meeting.

SUMMARY: In accordance with the Federal Land Policy and Management Act of 1976 and the Federal Advisory Committee Act of 1972, the U.S. Department of the Interior, Bureau of Land Management (BLM) Wild Horse and Burro Advisory Board (Board) will hold a public meeting.

DATES: The Board will meet in person from December 12 through 14, 2023; 8 a.m. to 5 p.m. Mountain Time (MT) Tuesday through Thursday. The BLM will host two educational field tours for the Board on Tuesday, December 12, 8 a.m. to 2:30 p.m. MT, and on Thursday, December 14, 8 a.m. to 2 p.m. MT, which are open to the public. The December 14 public meeting will resume at 2:15 p.m. at the BLM National Training Center (see ADDRESSES section below).

ADDRESSES: The Board will meet in Phoenix, Arizona, at the BLM National Training Center in the Arizona room located at 9828 N 31st Ave., Phoenix, AZ 85051.

The meeting is open to the public. The public may attend the meeting in person or watch via live stream at www.blm.gov/live.

The final agenda will be posted 2 weeks prior to the meeting and can be found on the following website: www.blm.gov/programs/wild-horse-and-burro/get-involved/advisory-board.

The tours will commence and conclude at the BLM National Training Center. Due to limited space, those wishing to attend the educational field tours should register via email to dboothe@blm.gov no later than 5 p.m. MT on November 29, 2023. Those attending the tours should bring a high clearance vehicle and any necessary food, health, and safety items for a full day in the field.

FOR FURTHER INFORMATION CONTACT: Dorothea Boothe, Wild Horse and Burro Program Coordinator: telephone: (602) 906-5543, email: dboothe@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Board advises the Secretary of the Interior, the BLM Director, the Secretary of Agriculture, and the Chief of the U.S. Forest Service on matters pertaining to the management and protection of wild, free-roaming horses and burros on the Nation's public lands. The Board operates in accordance with 43 CFR 1784.

Advisory Board Meeting Agenda

Tuesday, December 12, 2023

8 a.m.-2:30 p.m. Mountain Time (MT)

Board Educational Field Tour to Lake Pleasant Herd Management Area (HMA)

(High clearance vehicle recommended, limited space and advance registration required)

Wednesday, December 13, 2023

Session 1—8 a.m. to 10 a.m. MT

Meeting Called to Order

Administrative Announcements

Welcome Remarks from BLM Arizona

BLM Arizona Wild Horse and Burro Program Overview

U.S. Forest Service Wild Horse and Burro Program Region 3 Update

Approval of Meeting Minutes: June 2023

Discussion: BLM and USFS Responses to Board Recommendations from June 2023

Board Meeting

BREAK—10 a.m. to 10:15 a.m. MT

Session 2—10:15 a.m. to 11:15 a.m. MT

Public Comment Period (First)

LUNCH BREAK—11:15 a.m. to 12:45 p.m. MT

Session 3—12:45 p.m. to 2:45 p.m. MT

Panel Discussion: Livestock, Wild Horses and Burros and Landscapes

BREAK—2:45 p.m. to 3 p.m. MT

Session 4—3 p.m. to 4:30 p.m. MT

BLM and U.S. Forest Service Program Updates

Session 5—4:30 p.m. to 5 p.m. MT

Advisory Board Discussion and Wrap Up

Adjourn

Thursday, December 14, 2023

8 a.m. to 2 p.m. MT

Board Educational Field Trip to Florence Wild Horse and Burro Off-Range Corral and Training Facility (Limited space; advance registration required)

BREAK—2 p.m. to 2:15 p.m. MT

Session 6—2:15 p.m. to 3 p.m. MT

Advisory Board Subcommittee Reports and Draft Recommendations

Session 7—3 p.m. to 4 p.m. MT

Public Comment Period (Second)

Session 8—4 p.m. to 5 p.m. MT

Advisory Board Discussion and Finalize Recommendations (Board vote)

Adjourn

Agenda may be subject to change.

Public Participation: Due to limited space, those wishing to attend the educational tour to the Lake Pleasant Herd Management Area on December 12 must register via email to dboothe@blm.gov no later than 5 p.m. MT on November 29, 2023. Attendees must provide their own high clearance transportation and any necessary food, health and safety items needed for a full day in the field.

The Board, the BLM, and the USFS welcome comments from all interested parties. The public will have an opportunity to make a verbal statement to the Advisory Board in person and virtually via Zoom (audio only) on Wednesday, December 13, from 10:15 a.m. to 11:15 a.m. MT and on Thursday, December 14, from 3 p.m. to 4 p.m. MT. To provide comments via Zoom, interested parties must register by December 8, 2023 at the following website: https://www.blm.gov/programs/wild-horse-and-burro/advisory-board. To provide comments in-person, interested parties may register on-site up to one hour before the comment period commences. Individuals who have not registered in advance may be permitted to offer comment if time allows. Participants using desktops, laptops, smartphones, and other personal digital devices will be able to participate with audio only via a link provided by the BLM. Those with phone-only access will be able to participate via a phone number and meeting ID provided by the BLM at the time of registration. The Board may limit the length of comments, depending on the number of participants who register in advance. The public may also submit written comments to the Board in addition to, or in lieu of, providing verbal comment. Written comments should be submitted to the Advisory Board at BLM_WO_Advisory_Board_Comments@blm.gov. Comments emailed three days prior to the meeting no later than 5 p.m. MT will be provided to the Advisory Board for consideration during the meeting. The BLM will record the entire meeting, including the allotted public comment sessions. Comments should be specific and explain the reason for the recommendation(s). Comments supported by quantitative information, studies, or those that include citations and analysis of applicable laws and regulations are most useful, and more likely to assist the decision-making process for the management and protection of wild horses and burros.

Beyond live captioning, any person(s) with special needs, such as for an auxiliary aid, interpreting service, assistive listening device, or materials in an alternate format, must notify Ms. Boothe 2 weeks before the scheduled meeting date. It is important to adhere to the 2-week notice to allow enough time to arrange for the auxiliary aid or special service. Live captioning will be available throughout the event on the BLM livestream page at www.blm.gov/live.

Before including your address, phone number, email address, or other personal identifying information in your comment, you should be aware that your entire comment—including your personal identifying information—may be made publicly available at any time. While you can ask us in your comment to withhold your personal identifying information from public review, the BLM cannot guarantee that it will be able to do so.

(Authority: 43 CFR 1784.4-2)

Sharif D. Branham,
Assistant Director, Resources and Planning.

[FR Doc. 2023-24769 Filed 11-8-23; 8:45 am]

BILLING CODE 4331-27-P